DEPARTMENT OF COMMERCE

Foreign-Trade Zones Board

[Docket 28-2004]

Foreign-Trade Zone 227, Durant, OK, Proposed Foreign-Trade Subzone, TPI Petroleum, Inc. (Oil Refinery Complex), Ardmore, OK

An application has been submitted to the Foreign-Trade Zones Board (the Board) by Rural Enterprises of Oklahoma, Inc., grantee of FTZ 227, requesting special-purpose subzone status for the oil refinery complex of TPI Petroleum, Inc. (TPI), a subsidiary of Valero Energy Corporation, located at three sites in the Ardmore, Oklahoma, area. The application was submitted pursuant to the provisions of the Foreign-Trade Zones Act, as amended (19 U.S.C. 81a-81u), and the regulations of the Board (15 CFR part 400). It was formally filed on July 13, 2004.

The TPI refinery complex is located at 3 sites in the Ardmore, Oklahoma, area, some 100 miles south of Oklahoma City: Site 1 (85,000 BPD capacity, 2,730,000 barrel storage capacity, 737.45 acres)—main refinery complex, located at Highway 142 Bypass and E. Cameron Road (Carter County); Site 2 (20.03 acres, 2 tanks, 184,000 barrel total crude storage capacity)—Wesson Storage Terminal, located at 13798 Prairie Valley Road, (Carter County), some 13 miles west of the refinery; and, Site 3 (22.25 acres, 2 tanks, 160,000 barrel total finished product storage capacity)—Wynnewood Storage Terminal, State Highway 17A and Froman Lane (Murray County), some 35 miles north of the refinery. The refinery complex is adjacent to the Dallas/Fort Worth Customs port of entry.

TPI's Ardmore refinery (260 employees) is used to produce fuels and other petroleum products. Products include gasoline, jet fuel, distillates, residual fuels, naphthas, motor fuel blendstocks, LPGs, petroleum coke and sulfur. Some 80 percent of the crude oil (75 percent of inputs) is sourced abroad. The company is also requesting to import certain intermediate inputs (naphthas and gas oils) under FTZ procedures.

Zone procedures would exempt the refinery from Customs duty payments on the foreign products used in its exports. On domestic sales, the company would be able to choose the Customs duty rates that apply to certain petrochemical products and refinery by-products (duty-free) by admitting incoming foreign inputs (crude oil, natural gas condensate, gas oil, naphtha) in non-privileged foreign status. The duty rates on inputs range from 5.25¢/barrel to 10.5¢/barrel. The application indicates that the savings from zone procedures would help improve the refinery's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is September 24, 2004. Rebuttal comments in response to material submitted during the foregoing period may be submitted during the subsequent 15-day period until October 12, 2004.

A copy of the application and accompanying exhibits will be available for public inspection at the Office of the Foreign-Trade Zones Board's Executive Secretary at address Number 1 listed above, and at the U.S. Department of Commerce Export Assistance Center, 301 NW., 63rd Street, Suite 330, Oklahoma City, Oklahoma 73116.

Dated: July 15, 2004.
Dennis Puccinelli,
Executive Secretary.

[FR Doc. 04-16976 Filed 7-23-04; 8:45 am]

BILLING CODE 3510-DS-P